DEPARTMENT OF STATE

[Public Notice: 7242]

The Advisory Committee on the 100,000 Strong Initiative

AGENCY: Department of State.

ACTION: Notice of intent to establish an advisory committee.

The Secretary of State announces the intent to establish the Advisory Committee on the 100,000 Strong Initiative, in accordance with the Federal Advisory Committee Act.

Nature and Purpose: The Committee will provide information and advice on the implementation of the 100,000 Strong Initiative in the private sector through recommendations on program standards, promotion of the initiative and commercial diplomacy pertaining to increasing the number of students studying abroad in China and encouraging increasing access to these programs for underrepresented groups. The objective of the Committee is to bring to the United States Government an additional source of expertise, knowledge and insight to deepen and broaden the knowledge base available to the State Department and elsewhere in the government on these issues. The Committee will advise exclusively on the 100,000 Strong Initiative and will not advise on Congressionally-funded State Department educational or cultural exchange programs.

Other Information: It is anticipated that the advisory committee will meet twice per year. More information on the 100,000 Strong Initiative may be found at http://www.state.gov/p/eap/regional/100000_strong/index.htm. The Department of State affirms that the advisory committee is necessary and in the public interest.

For Further Information, Please Contact: Carola McGiffert at (202) 647-1029.

Dated: January 12, 2011.
Carola McGiffert,
Senior Advisor.

[FR Doc. 2011-1157 Filed 1-19-11; 8:45 am]

BILLING CODE 4710-13-P